FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 11, 2005.

A. Federal Reserve Bank of Atlanta (Andre Anderson, Vice President) 1000 Peachtree Street, N.E., Atlanta, Georgia 30303:

1. William Schwing Patout, III, Franklin, Louisiana; Robert Bernadas Patout and Judith Hill Patout, both of Jeanerette, Louisiana; and Rivers Martin Patout, Jeanerette, Louisiana; to acquire additional voting shares of Jeanerette First National Bancorp, Inc., Jeanerette, Louisiana, and thereby indirectly acquire additional voting shares of The First National Bank of Jeanerette, Jeanerette, Louisiana.

B. Federal Reserve Bank of San Francisco (Tracy Basinger, Director, Regional and Community Bank Group) 101 Market Street, San Francisco, California 94105-1579:

1. Enoch Andrus Ludlow, Provo, Utah; to acquire additional voting shares of Far West Bancorporation, Provo, Utah, and thereby indirectly acquire additional voting shares of Far West Bank, Provo, Utah.

Board of Governors of the Federal Reserve System, September 21, 2005.
Robert deV. Frierson,
Deputy Secretary of the Board.

[FR Doc. 05-19215 Filed 9-26-05; 8:45 am]

BILLING CODE 6210-01-S